NEIGHBORHOOD REINVESTMENT CORPORATION

Sunshine Act Meetings

TIME AND DATE: 1:00 p.m., Thursday, April 21, 2022.

PLACE: Via Conference Call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b(c)(2) and (4) permit closure of the following portion(s) of this meeting:

• Executive Session

Agenda

I. CALL TO ORDER

II. FY2021 External Audit

III. Sunshine Act Approval of Executive (Closed) Session

IV. Executive Session with External Auditors

V. Executive Session Report from CEO

VI. Executive Session: Report from CFO

VII. Executive Session: General Counsel Report

VIII. Executive Session: NeighborWorks Compass™ Update

IX. Executive Session: Possible Chief Information Officer Appointment

X. Action Item Approval of Minutes

XI. Action Item Resolution to Approve FY21 External Audit

XII. Action Item New York City Office Lease

XIII. Action Item Health Insurance Special Delegation of Authority

XIV. Discussion Item March 10 Audit Committee Report

XV. Discussion Item FY22 All-Sources Budget

XVI. Discussion Item Interim CIO Report

XVII. Discussion Item Capital Corporations Update and Grant Request for June

XVIII. Discussion Item DC Office Relocation Budget

XIX. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-07865 Filed 4-8-22; 11:15 am]

BILLING CODE 7570-02-P